DEPARTMENT OF HOUSING AND URBAN DEVELOPMENT

[Docket No. FR-6003-N-05]

60-Day Notice of Proposed Information Collection: Reporting for HUD Research, Evaluation, and Demonstration Cooperative Agreements

AGENCY: Office of Policy Development and Research, HUD.

ACTION: Notice: Paperwork Reduction Act.

SUMMARY: HUD is seeking approval from the Office of Management and Budget (OMB) for the information collection described below. In accordance with the Paperwork Reduction Act, HUD is requesting comments from all interested parties on the proposed collection of information. The purpose of this notice is to allow for 60 days of public comment.

DATES: Comments Due Date: July 17, 2017.

ADDRESSES: Interested persons are invited to submit comments regarding this proposal. Comments should refer to the proposal by name and/or OMB Control Number and should be sent to: Anna P. Guido, Reports Management Officer, QDAM, Department of Housing and Urban Development, 451 7th Street SW., Room 4176, Washington, DC 20410-5000; telephone (202) 402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW., Washington, DC 20410; email Anna P. Guido at Anna.P.Guido@hud.gov or telephone (202) 402-5535 (this is not a toll-free number). Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

A. Overview of Information Collection

Title of Information Collection: Reporting for HUD Research, Evaluation, and Demonstration Cooperative Agreements.

OMB Approval Number: 2528-0299.

Description of the need for the information and proposed use: PD&R intends to establish cooperative agreements with qualified for-profit and nonprofit research organizations and universities to conduct research, demonstrations, and data analysis. PD&R will issue a Notice of Funding Availability (NOFA) describing the cooperative research program. Management of PD&R cooperative agreements for research and demonstrations will require periodic reporting of progress. This information collection will be limited to recipients of cooperative agreements.

Type of Request: (i.e. new, revision or extension of currently approved collection): Renewal.

Agency Form Numbers: No agency forms will be used. The quarterly reporting will be accomplished through a short narrative report.

Respondents: HUD anticipates that approximately 8-10 organizations will be selected for cooperative agreement award. Recipients of the cooperative agreements will be the sole members of the affected public for the reporting requirement.

Members of Affected Public: For-profit and nonprofit organizations that apply to participate under the cooperative research agreements NOFA.

Estimated Number of Respondents frequency of response, and hours of response: HUD anticipates that a maximum of 10 organizations will receive cooperative agreements. Quarterly progress reporting, other mandatory federal reporting and recordkeeping requirements are estimated at 36 labor hours annually for each awardee during the life of the agreement. The total estimated burden for progress reporting by all participants is 360 hours annually.

Estimated Total Annual Burden Hours: 360.

Estimated Total Annual Cost: The only cost to the respondents is that of their time.

Information collection | Number of respondents | Frequency of response | Responses per annum | Burden hour per response | Annual burden hours | Hourly Cost per response | Cost
Quarterly Reports | 10 | 4 | 40 | 4 | 160 | $0 | $0
Other Reports | 10 | 1 | 10 | 4 | 40 | 0 | 0
Recordkeeping | 10 | 1 | 10 | 16 | 160 | 0 | 0
Total |  |  |  |  | 360 |  | 0

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including the use of appropriate automated collection techniques or other forms of information technology, e.g., permitting electronic submission of responses. HUD encourages interested parties to submit comment in response to these questions.

Authority: Section 3507 of the Paperwork Reduction Act of 1995, 44 U.S.C. chapter 35.

Dated: May 8, 2017.
Matthew E. Ammon,
General Deputy Assistant Secretary for Policy Development and Research.

[FR Doc. 2017-09867 Filed 5-15-17; 8:45 am]

BILLING CODE 4210-67-P